DEPARTMENT OF JUSTICE

Antitrust Division

Notice Pursuant to the National Cooperative Research and Production Act of 1993—The Open Group, L.L.C.

Notice is hereby given that, on July 27, 2020, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Anduril Industries, Inc., Irvine, CA; BNP PARIBAS S.A., Montreuil, FRANCE; Organizacion Educativa Certifica, S.C, Iztacalco, MEXICO; Cobham Advanced Electronic Solutions, Hollis, NH; Critical Frequency Design, LLC, Melbourne, FL; Curtis & Associates Ltd., Port St. Mary, UNITED KINGDOM; Cyber Assessments, Inc., New York, NY; Dawn VME Products, Fremont, CA; DT360, Inc., Natick, MA; EIZO Rugged Solutions Inc., Altamonte Springs, FL; Endress+Hauser Process Solutions, Reinach, SWITZERLAND; Eni S.p.A., Rome, ITALY; FLIR Systems, Inc., Wilsonville, OR; Global Data Analytics Pty Ltd, Perth, AUSTRALIA; JourneyOne, West Perth, AUSTRALIA; Midwest Microwave Solutions, Inc., Hiawatha, IA; OPENextech (Hangzhou) Co., Ltd, Hangzhou, CHINA; Orolia Defense & Security, LLC, Rochester, NY; Parry Labs, LLC, Colombia, MD; PCI Systems Inc., Cupertino, CA; Peloton Computer Enterprises, Inc., Katy, TX; R Stahl, Inc., Stafford, TX; RADA Technologies, LLC, Germantown, MD; Resolve GeoSciences, Inc., Fulshear, TX; Reveal Energy Services, LLC, Houston, TX; University of Texas at Austin—RAPID Consortium, Austin, TX; University of Utah, Salt Lake City, UT; and Viqtor Davis, Austin, TX, have been added as parties to this venture.

Also, 6point6 Limited, London, UNITED KINGDOM; act! consulting GmbH, Braunschweig, GERMANY; Adservio, Paris, FRANCE; Ajman Municipality Planning Department, Ajman, INDIA; Auldhouse Computer Training Limited, Auckland, NEW ZEALAND; Axellience, Lille, FRANCE; BAE Systems Applied Intelligence, London, UNITED KINGDOM; Benchmark Consulting, Montreal, CANADA; Brockwell Technologies, Inc., Huntsville, AL; Data Security Council of India, New Delhi, INDIA; DRS Training & Control Systems, LLC, Fort Walton Beach, FL; EA-Xperts, Mannheim, GERMANY; Enterprise Architects LTD, London, UNITED KINGDOM; Essentive LLC, Wilmington, DE; Innoitus/Austech Institute PTY Ltd, Moonee Ponds, AUSTRALIA; Jodayn Consulting, Riyadh, SAUDI ARABIA; OAG Analytics, Inc., Houston, TX; Osokey Ltd, Henley-on-Thames, UNITED KINGDOM; Quantico Energy Solutions, Inc., Houston, TX; Semantic Designs, Inc., Austin, TX; Sopra Steria Denmark, Copenhagen, DENMARK; Texas Department of Motor Vehicles, Austin, TX; Vinsys IT Consulting, Pune, INDIA; and Xuenn Private Limited, Taipei City, TAIWAN have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on May 29, 2020. A notice was published in the Federal Register pursuant to Section 6(b) of the Act on June 18, 2020 (85 FR 36878).

Suzanne Morris,
Chief, Premerger and Division Statistics Antitrust Division.

[FR Doc. 2020-18980 Filed 8-27-20; 8:45 am]

BILLING CODE P